SECURITIES AND EXCHANGE COMMISSION

[Release No. 34-58895; File No.SR-NYSEArca-2008-122]

Self-Regulatory Organizations; NYSE Arca, Inc.; Notice of Filing and Order Granting Accelerated Approval of Proposed Rule Change To Extend the Pilot Program for NYSE Arca Realtime Reference Prices Service

Correction

In notice document E8-26627 beginning on page 66956 in the issue of Wednesday, November 12, 2008 make the following correction:

On page 66957, in the third column, under heading III. Solicitation of Comments, in the last paragraph, in the second to last line “December 1, 2008” should read “December 3, 2008”.

[FR Doc. Z8-26627 Filed 12-9-08; 8:45 am]

BILLING CODE 1505-01-D